DEPARTMENT OF DEFENSE

Department of the Air Force

[Docket ID: USAF-2009-0033]

Privacy Act of 1974; System of Records

AGENCY: Department of the Air Force, DoD.

ACTION: Notice to add a System of Records.

SUMMARY: The Department of the Air Force proposes to add a system of records to its inventory of record systems subject to the Privacy Act of 1974 (5 U.S.C. 552a), as amended.

DATES: The proposed action will be effective on July 16, 2009 unless comments are received that would result in a contrary determination.

ADDRESSES: Send comments to the Air Force Privacy Act Officer, Office of Warfighting Integration and Chief Information Officer, SAF/XCPPI, 1800 Air Force Pentagon, Washington, DC 20330-1800.

FOR FURTHER INFORMATION CONTACT: Mr. Ben Swilley at (703) 696-6489.

SUPPLEMENTARY INFORMATION: The Department of the Air Force's notices for systems of records subject to the Privacy Act of 1974 (5 U.S.C. 552a), as amended, have been published in the Federal Register and are available from the address above.

The proposed systems reports, as required by 5 U.S.C. 552a(r) of the Privacy Act, were submitted on June 4, 2009 to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996, (February 20, 1996, 61 FR 6427).

Dated: June 4, 2009.
Morgan E. Frazier,
Alternate Federal Register Liaison Officer, Department of Defense.

FO36 AFRC B

System name:

Air Force Recruiting Information Support System—Reserve Records.

System location:

Headquarters, Air Force Reserve Command, Recruiting Service, 1000 Corporate Pointe, Warner Robins, GA 31088-3430.

Categories of individuals covered by the system:

Prospective Air Force enlisted and officer personnel entering Active, Guard and Reserve duty and Air Force enlisted personnel on recruiting duty.

Categories of records in the system:

Name, Social Security Number (SSN), scores on all qualification tests, mailing address, educational level and data, prior service history, age, gender, race, marital status, number of dependents, physical job qualifications, job preferences, jobs offered and accepted, recruiting, processing locations, dates of processing, and other personal data relevant to the recruitment process.

Authority for maintenance of the system:

Title 10, U.S.C. Subtitle E Sections 10202, 10205, 10174 and 10110, Air Force Policy Directive 36-20 para 2.1, 2.3, and Air Force Instruction 36-2115 para 1.1.2.4 through 1.1.2.4.5 and E.O. 9397 (SSN).

Purpose(s):

The system will provide field recruiters an automated tool to process prospective Guard and Reserve applicants; evaluate recruiter's and job counselor's activity and efficiency levels; and analyze pre-enlistment job cancellations for common reasons.

Routine uses of records maintained in the system including categories of users and the purposes of such use:

In addition to those disclosures generally permitted under 5 U.S.C. 552A(b) of the Privacy Act of 1974, these records contained therein may be specifically disclosed outside the Department of Defense as a routine use pursuant to 5 U.S.C. 552a(b)(3) as follows:

The “DoD Blanket Routine Uses” published at the beginning of the Air Force's compilation of systems of records notices apply to this system.

Policies and practices for storing, retrieving, accessing, retaining, and disposing of records in the system:

Storage:

Paper records in file folders and electronic storage media.

Retrievability:

Name or Social Security Number (SSN).

Safeguards:

Records are accessed only by person(s) responsible with a need to know for servicing the system of record in performance of their official duties and those authorized personnel who are properly screened and cleared. Access to the system utilizes encryption software. Records in computer storage devices are protected by computer system software.

Retention and disposal:

Hard copy enlistment processing records, recruiter personnel records, and personal interview records (PIR) are archived and later shredded after no longer needed. Electronic records are archived indefinitely.

System manager(s) and address:

Program Manager, Air Force Reserve Command Recruiting, 1000 Corporate Pointe, Warner Robins, GA 31088-3430.

Notification procedures:

Individuals seeking to determine whether information about themselves is contained in this system of records should address written inquiries to Operations Division, Air Force Reserve Command Recruiting, 1000 Corporate Pointe, Warner Robins, GA 31088-3430.

Request must contain full name, Social Security Number (SSN), and current mailing address.

Record access procedures:

Individuals seeking access to information about themselves contained in this system of records should address written inquiries to Operations Division, Air Force Reserve Command Recruiting, 1000 Corporate Pointe, Warner Robins, GA 31088-3430.

Request must contain full name, Social Security Number (SSN), and current mailing address.

Contesting record procedures:

The Air Force rules for access to records, and for contesting and appealing initial agency determinations by the individual concerned are published in Air Force Instruction 33-332, Privacy Act Program, 32 CFR Part 806b, or may be obtained from the system manager.

Record source categories:

From the individual.

Exemptions claimed for the system:

None.

[FR Doc. E9-14094 Filed 6-15-09; 8:45 am]

BILLING CODE 5001-06-P